DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by November 2, 2023. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Origin of Livestock—Variance Request.

OMB Control Number: 0581-NEW.

Summary of Collection: The Organic Foods Production Act of 1990 (OFPA), as amended (7 U.S.C. 6501—6524), authorizes the Secretary of Agriculture to establish the National Organic Program (NOP) and accredit certifying agents to certify that farms and businesses meet national organic standards. The purpose of OFPA is to: (1) establish national standards governing the marketing of certain agricultural products as organically produced products; (2) assure consumers that organically produced products meet a consistent standard; and (3) facilitate interstate commerce in fresh and processed food that is organically produced (7 U.S.C. 6501).

On April 5, 2022, the U.S. Department of Agriculture's (USDA) Agricultural Marketing Service (AMS) published the “Origin of Livestock” (OOL) final rule (87 FR 19740) related to livestock production practices under the USDA organic regulations (7 CFR part 205). AMS took this action to increase uniformity in organic dairy production practices and reduce organic certification discrepancies between certifying agents. The final rule clarified that certified organic dairy operations may transition nonorganic animals to organic production only once. After that, any animals added to a certified organic dairy operation must have been organically managed from the last third of gestation. To provide flexibility, the final rule allows [in 7 CFR 205.236(d)] small certified organic dairy operations to request a variance under limited conditions. A variance is a process by which an entity requests permission to not follow a particular regulatory requirement without repercussion of regulatory noncompliance. If the variance is approved by AMS, the small certified organic dairy operation may source, sell, liquidate, or transfer, as one event, organic dairy livestock that were transitioned to organic production (livestock that were not organically managed from no later than the last third of gestation).

Need and Use of the Information: AMS will be able to use other information submitted as part of the currently approved information collection package for the NOP (OMB #0581-0191) to determine if the applicants qualify as a small business [the first variance eligibility criterion at 7 CFR 205.236(d)(1)].

However, this new variance request specifies new information not currently collected by AMS. This new information is described in the USDA organic regulations in 7 CFR 205.236(d)(1)(i)-(iii) (see above). To apply for a variance, respondents (small certified organic dairy operations) will need to submit to AMS, through their certifying agent, records that demonstrate that they qualify for a variance due to bankruptcy proceedings, forced sales, insolvency, or an intergenerational transfer.

The new information collected will be used by AMS to grant (or deny) individual, small certified organic dairy operations a variance from the USDA organic regulations in regard to the origin of livestock.

Description of Respondents: Business or other for-profit; Farms.

Number of Respondents: 56.

Frequency of Responses: Reporting: Annually.

Total Burden Hours: 98.

Levi S. Harrell,
Departmental Information Collection Clearance Officer.

[FR Doc. 2023-21832 Filed 10-2-23; 8:45 am]

BILLING CODE 3410-02-P